DEPARTMENT OF TRANSPORTATION

Pipeline and Hazardous Materials Safety Administration

[Docket No. PHMSA-97-3001]

Pipeline Safety: Notice of Availability of a Study on Burial of Submerged Pipelines

AGENCY: Pipeline and Hazardous Materials Safety Administration (PHMSA), Department of Transportation (DOT).

ACTION: Notice of availability of study and request for comments.

SUMMARY: This notice announces the availability of PHMSA's study titled “Burial of Submerged Pipelines”, which addresses the hazards to navigation from offshore submerged pipelines. PHMSA requests comments on the study to assist in evaluating the need for further analysis due to anticipated changes in the offshore environment.

DATES: Comments must be submitted by May 21, 2007.

ADDRESSES: The study is located in docket number PHMSA-97-3001. To submit comments, reference the docket number and use one of the following:

• DOT Web site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW, Nassif Building, Room PL-401, Washington, DC 20590-0001.

• Hand Delivery: DOT Docket Management System; Room PL-401 on the plaza level of the Nassif Building, 400 Seventh Street, SW, Washington, DC between 9 a.m. and 5 p.m., Monday through Friday, except Federal holidays.

• E-Gov Web site: http://www.Regulations.gov. This site allows the public to enter comments on any Federal Register notice issued by any agency.

Instructions: Identify the docket number, PHMSA-97-3001, at the beginning of your comments. If you mail your comments, send two copies. If you wish to receive confirmation that PHMSA received your comments, include a self-addressed stamped postcard. Online submit comments at http://www.regulations.gov, and may access all comments received by DOT at http://dms.dot.gov by performing a simple search for the docket number.

Note: PHMSA posts all comments without changes or edits to http://dms.dot.gov, including any personal information provided.

Privacy Act

Anyone can search the electronic form for comments received in response to any of our dockets by the name of the individual submitting the comment (or signing the comment, if submitted on behalf of an association, business, labor union, etc.). DOT's complete Privacy Act Statement is published in the Federal Register on April 11, 2000 (65 FR 19477), and on the Web at http://dms.dot.gov.

FOR FURTHER INFORMATION CONTACT: Joy Kadnar at (202) 366-0568, or by e-mail at joy.kadnar@dot.gov.

SUPPLEMENTARY INFORMATION:

Background

In July 1987, a fishing vessel struck and ruptured an eight-inch natural gas liquid pipeline in the Gulf of Mexico. The resulting explosion killed two crewmembers. In October 1989, a similar accident occurred in the Gulf of Mexico when a vessel struck a 16-inch gas pipeline. The resulting fire caused 11 fatalities.

The National Transportation Safety Board (NTSB) investigated these incidents and in 1990 issued safety recommendation number PS-90-29 to PHMSA, in 1990. The NTSB recommended PHMSA “develop and implement effective methods and requirements to bury, protect, and inspect the burial depth of, and maintain, all submerged pipelines in areas subject to damage by surface vessels and their operations.”

PHMSA took immediate actions in response to this recommendation. In April 1990, PHMSA issued an Alert Notice to warn pipeline operators and the commercial fishing industry about the dangers of submerged pipelines. After completing extensive research, PHMSA developed a risk management profile for submerged pipelines. PHMSA also issued regulations requiring operators to develop and follow a procedure to identify and conduct periodic inspections of submerged pipelines in the Gulf of Mexico that pose a hazard to navigation (69 FR 48400; August 17, 2004).

The NTSB expressed concern that the 2004 final rule did not address offshore submerged pipelines outside the Gulf of Mexico, and requested that PHMSA further study these submerged pipelines. PHMSA recently completed the study to address the NTSB's concern. The study found that since 1990 there have been 58 reported instances of a vessel or its equipment striking a submerged pipeline offshore, and 64 reported instances where a submerged pipeline was either uncovered or presented a hazard to navigation. No incidents were found outside of the Gulf of Mexico.

The study addresses the impact of pipeline depth of burial and vessels in waters less than 15 feet of depth. PHMSA anticipates there will be changes in the offshore environment, such as liquefied natural gas import facilities. PHMSA is working with the Federal Energy Regulatory Commission to ensure adequate protection of LNG lines. PHMSA provides FERC with findings from our safety analysis for consideration of conditional terms for granting permits. Therefore, PHMSA has the ability to get safety concerns addressed through FERC by adding them as conditions of a permit. In addition, climate change may adversely affect offshore pipeline infrastructure by causing shifts in weather patterns, water depth or vessel traffic. PHMSA requests comments on the study to assist in evaluating the need for further analysis due to these anticipated changes in the offshore environment.

Authority: 49 U.S.C. 60102, 60115.

Issued in Washington, DC on April 16, 2007.
Joy Kadnar,
Acting Associate Administrator for Pipeline Safety.

[FR Doc. E7-7482 Filed 4-19-07; 8:45 am]

BILLING CODE 4910-60-P